COMMODITY FUTURES TRADING COMMISSION

Agency Information Collection Activities: Notice of Intent To Renew Collection 3038-0052, Establishing Procedures for Designated Contract Markets and Applicants Seeking Designation, Comment Request

AGENCY: Commodity Futures Trading Commission.

ACTION: Notice.

SUMMARY: In compliance with the Paperwork Reduction Act (44 U.S.C. 3501 et seq.), this notice announces that the Information Collection Request (ICR) abstracted below has been forwarded to the Office of Management and Budget (OMB) for review and comment. The ICR describes the nature of the information collection and the expected costs and burden; it includes the actual data collection instruments [if any].

DATES: Comments must be submitted on or before December 18, 2008.

FOR FURTHER INFORMATION OR A COPY, CONTACT: Riva Spear Adriance, Division Of Market Oversight, U.S. Commodity Futures Trading Commission, 1155 21st Street, NW., Washington, DC 20581, (202) 418-5494; Fax: (202) 418-5527; e-mail: radriance@cftc.gov and refer to OMB Control No. 3038-0052.

SUPPLEMENTARY INFORMATION: Title: Part 38—Designated Contract Markets, OMB Control No. 3038-0052. This is a request for extension of a currently approved information collection.

Abstract: Designated contract markets are fully regulated commodity futures and options exchanges. Such markets, prior to registration and on an ongoing basis, must demonstrate compliance with the criteria for designation (set forth in Section 5(b) of the Commodity Exchange Act, 7 U.S.C. 7(b)), the core principles for operation (set forth in Section 5(d) of the Act, 7 U.S.C. 7(d)), and the provisions of Part 38 of the Commission's regulations, 17 CFR Part 38. Part 38 of the Commission's regulations governs the activities of designated contract markets. The information collected thereunder is necessary for the Commission to evaluate whether entities operating as, or applying to become, designated contract markets are in compliance with the designation criteria and the core principles delineated in the Act and the Commission's regulations adopted thereunder. Appendix A to Part 38 provides guidance to applicants on how the specific conditions for initial designation may be met by an applicant. Appendix B to Part 38 provides guidance to applicants on how designated contract markets can remain in compliance with the core principles.

An agency may not conduct or sponsor, and a person is not required to respond to, a collection of information unless it displays a currently valid OMB control number. The OMB control numbers for the Commission's regulations were initially published on December 30, 1981. See 46 FR 63035 (Dec. 30, 1981). The Federal Register notice with a 60-day comment period soliciting comments on this collection of information was published on September 12, 2008 (73 FR 52959). No comments were received in response to this publication.

The Commission estimates the burden of this collection of information as follows:

Estimated Annual Reporting Burden
Report | Estimated number of respondents | Reports annually by each | Total annual responses | Estimated average number of hours per response | Annual reporting burden
Designation and Compliance | 13 | NA | NA | 300 | 3900

Burden means the total time, effort, or financial resources expended by persons to generate, maintain, retain, disclose or provide information to or for a federal agency. This includes the time needed to review instructions; develop, acquire, install, and utilize technology and systems for the purposes of collecting, validating, and verifying information, processing and maintaining information and disclosing and providing information; adjust the existing ways to comply with any previously applicable instructions and requirements; train personnel to be able to respond to a collection of information; and transmit or otherwise disclose the information.

Send comments regarding the burden estimated or any other aspect of the information collection, including suggestions for reducing the burden, to the addresses listed below. Please refer to OMB Control No. 3038-0052 in any correspondence.

Riva Spear Adriance, Division Of Market Oversight, U.S. Commodity Futures Trading Commission, 1155 21st Street, NW., Washington, DC 20581, (202) 418-5494; Fax: (202) 418-5527; e-mail: radriance@cftc.gov, and Office of Information and Regulatory Affairs, Office of Management and Budget, Attention: Desk Officer for CFTC, 725 17th Street, NW., Washington, DC 20503.

Dated: November 13, 2008.
David A. Stawick,
Secretary of the Commission.

[FR Doc. E8-27345 Filed 11-17-08; 8:45 am]

BILLING CODE 6351-01-P